GENERAL SERVICES ADMINISTRATION

[Notice MG-2022-02; Docket No. 2022-0001; Sequence No. 5]

Office of Federal High-Performance Green Buildings; Green Building Advisory Committee; Request for Membership Nomination

AGENCY: Office of Government-wide Policy, General Services Administration (GSA).

ACTION: Notice of request for membership nomination.

SUMMARY: The Green Building Advisory Committee provides advice to GSA as a statutorily required federal advisory committee, as specified in the Energy Independence and Security Act of 2007 (EISA) and in accordance with the provisions of the Federal Advisory Committee Act (FACA). This notice invites qualified candidates with a combination of both lived and professional expertise in environmental justice, equity, and green buildings to apply for an appointment to serve as a member on GSA's Green Building Advisory Committee. This is a competitive process for one opening, in light of the statutory limitation on the size of the Committee.

DATES: May 20, 2022.

FOR FURTHER INFORMATION CONTACT: Mr. Bryan Steverson, Office of Federal High-Performance Green Buildings, GSA, bryan.steverson@gsa.gov or 202-501-6115.

SUPPLEMENTARY INFORMATION:

Background

The Administrator of the GSA established the Green Building Advisory Committee (hereafter, “the Committee”) on June 20, 2011 (76 FR 118) pursuant to Section 494 of the Energy Independence and Security Act of 2007 (42 U.S.C. 17123, or EISA), in accordance with the provisions of the Federal Advisory Committee Act (FACA), as amended (5 U.S.C. App. 2). Under this authority, the Committee advises GSA on how the Office of Federal High-Performance Green Buildings can most effectively accomplish its mission. Information about this Office is available online at https://www.gsa.gov/hpb, while information about the Committee may be found at https://www.gsa.gov/gbac. EISA requires the Committee to be represented by specific categories of members as well as “other relevant agencies and entities, as determined by the Federal Director” (EISA § 494(b)(1)(B)). This notice reflects the decision of the Federal Director of GSA's Office of Federal High-Performance Green Buildings to add a member with specific expertise in environmental justice and equity. This decision is informed by national policy as reflected in Executive Order 14008, specifically the requirement in Section 219 that “agencies shall make achieving environmental justice part of their missions by developing programs, policies, and activities to address the disproportionately high and adverse human health, environmental, climate-related and other cumulative impacts on disadvantaged communities, as well as the accompanying economic challenges of such impacts”.

Member Responsibilities

The individual will be appointed to a three-year term. Membership is limited to the specific individual appointed and is non-transferrable. All Committee members are expected to personally attend all meetings, review all Committee materials, and actively provide their advice and input on topics covered by the Committee. Committee members will not receive compensation but may receive travel reimbursements from the Government for in-person meetings, where a need has been demonstrated and funds are available.

Request for Membership Nominations

This notice provides an opportunity for individuals (or others on their behalf) to submit their qualifications to serve as a member on the Committee. GSA values and welcomes diversity. In an effort to obtain nominations of diverse candidates, GSA encourages nominations from people of all communities, identities, races, ethnicities, backgrounds, abilities, cultures, and beliefs, including underserved communities and from all geographic locations of the United States of America.

GSA is specifically looking for nominees with a combination of professional and lived experiences and knowledge of environmental justice and equity as it relates to green buildings. Illustrative examples of relevant expertise may include: Advocacy for or technical assistance to communities on environmental justice and equity issues related to the built environment; advancing diversity, equity, inclusion and/or accessibility policies in architecture, engineering or other building trades; designing and/or operating governmental or corporate environmental justice and equity programs.

Other criteria used to evaluate nominees include:

• The background and experience that would help the member contribute to the diversity of perspectives on the committee (e.g., geographic, economic, social, cultural, educational background, professional affiliations, and other considerations);

• demonstrated experience with environmental justice and community sustainability issues at the national, state, or local level;

• excellent interpersonal and consensus-building skills and demonstrated ability to work constructively and effectively on committees.

• ability to volunteer time to attend meetings 2-3 times a year, participate in teleconference meetings, develop policy recommendations, and prepare reports and advice letters; and

All nominees should have at least 5 years experience and hold academic degrees, certifications or training demonstrating knowledge in green building, environmental justice and equity. Knowledge of Federal sustainability and green building requirements, laws and programs is of particular value to the Committee. GSA will review and consider all applications and determine which candidate is likely to add the most value to the Committee based on the criteria outlined in this notice. No person appointed to serve in an individual capacity shall be a federally registered lobbyist in accordance with the Presidential Memorandum “Lobbyists on Agency Boards and Commissions” (June 18, 2010) and OMB Final Guidance published in the Federal Register on October 5, 2011 and revised on August 13, 2014.

Nomination Process for Advisory Committee Appointment

Individuals may nominate themselves or others. A nomination package shall include the following information for each nominee:

(1) A letter of nomination stating the name and organizational affiliation(s) of the nominee (and position within that organization), nominee's field(s) of expertise, specific qualifications to serve on the Committee, and description of interest and qualifications;

(2) A professional resume or CV; and

(3) Complete contact information including name, return address, email address, and daytime telephone number of the nominee and nominator.

GSA reserves the right to choose the Committee member based on qualifications, experience, Committee balance, statutory requirements and all other factors deemed critical to the success of the Committee. Candidates may be asked to provide detailed financial information to ensure that the interests and affiliations of advisory committee members are reviewed for conformance with applicable conflict of interest statutes and other Federal ethics rules. All nominations must be submitted to bryan.steverson@gsa.gov by 5:00 p.m., Eastern Time (ET), on May 20, 2022.

Kevin Kampschroer,
Federal Director, Office of Federal High-Performance Green Buildings, Office of Government-Wide Policy, General Services Administration.

[FR Doc. 2022-08419 Filed 4-19-22; 8:45 am]

BILLING CODE 6820-14-P